DEPARTMENT OF TRANSPORTATION

Federal Motor Carrier Safety Administration

[Docket No. FMCSA-2006-26367]

Motor Carrier Safety Advisory Committee (MCSAC): Public Meeting

AGENCY: Federal Motor Carrier Safety Administration (FMCSA), DOT.

ACTION: Notice of Meeting of Motor Carrier Safety Advisory Committee (MCSAC).

SUMMARY: FMCSA announces that its Motor Carrier Safety Advisory Committee (MCSAC) will meet from Monday-Wednesday, December 3-5, 2012, in Alexandria, VA. On Monday, December 3, the Agency will assign the MCSAC a new task concerning entry-level driver training (ELDT) and provide briefings on previous rulemaking actions, research and data analyses on the issue, and the ELDT provision in the recently enacted Moving Ahead for Progress in the 21st Century (MAP-21) Surface Transportation Act. On Tuesday, December 4, the MCSAC will receive staff-level briefings from the DOT Office of the Inspector General (OIG) and General Accountability Office (GAO) on their oversight responsibilities with regard to the DOT and MCSAC. On Wednesday, the MCSAC's Compliance, Safety, Accountability (CSA) Subcommittee will be provided with presentations and a panel discussion from researchers and data analyst concerning the CSA Safety Measurement System and will continue its deliberations. Meetings are open to the public for their entirety and there will be a public comment period at the end of each day.

Times and Dates: The meeting will be held Monday-Tuesday, December 3-4, 2012, from 8:30 a.m. to 5 p.m., Eastern Daylight Time (E.D.T.), and on Wednesday, December 5, 2012, from 8:30 a.m. to 3:00 p.m., E.D.T. The meetings will be held at the Hilton Alexandria Old Town, 1767 King Street, Alexandria, VA 22314 in the Washington and Jefferson Rooms on the 2nd floor. The Hilton Alexandria Old Town is located across the street from the King Street Metro station.

Copies of all MCSAC Task Statements and an agenda for the entire meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities:

For information on facilities or services for individuals with disabilities or to request special assistance at the meeting, contact Elizabeth Turner at (617) 494-2068, elizabeth.turner@dot.gov, by Tuesday, November 27, 2012.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

II. Meeting Participation

Oral comments from the public will be heard during the last half-hour of the meetings each day. Should all public comments be exhausted prior to the end of the specified period, the comment period will close. Members of the public may submit written comments on the topics to be considered during the meeting by Tuesday, November 27, 2012, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: November 15, 2012 .
Larry W. Minor
Associate Administrator for Policy.

[FR Doc. 2012-28336 Filed 11-20-12; 8:45 am]

BILLING CODE P